DEPARTMENT OF ENERGY

10 CFR Part 1042

[DOE-HQ-2025-0025]

RIN 1903-AA22

Rescinding Regulations Related to Nondiscrimination on the Basis of Sex in Education Programs or Activities Receiving Federal Financial Assistance

AGENCY: Office of Civil Rights and EEO, Department of Energy.

ACTION: Direct final rule; further delay of effective date.

SUMMARY: The U.S. Department of Energy (DOE) is further extending the effective date of the direct final rule “Rescinding Regulations Related to Nondiscrimination on the Basis of Sex in Education Programs or Activities Receiving Federal Financial Assistance,” published on May 16, 2025.

DATES: As of December 9, 2025, the effective date of the direct final rule published May 16, 2025, at 90 FR 20788, delayed until September 12, 2025 (90 FR 31141), further delayed until December 9, 2025 (90 FR 43540, 90 FR 45317), is further delayed until March 9, 2026.

FOR FURTHER INFORMATION CONTACT: Mr. Jeffrey Novak, U.S. Department of Energy, Office of the General Counsel, GC-1, 1000 Independence Avenue SW, Washington, DC 20585; (202) 586-5281 or DOEGeneralCounsel@hq.doe.gov.

SUPPLEMENTARY INFORMATION: On May 16, 2025, DOE published a direct final rule. 90 FR 20788. DOE stated in that direct final rule that if significant adverse comments were received by June 16, 2025, DOE would withdraw the direct final rule. Id. On July 14, 2025, DOE published a document delaying the effective date to consider comments submitted in response to the direct final rule. 90 FR 31141.

In this document, due to delays related to the lapse in appropriations, DOE is further extending the effective date in order to follow the Department of Justice direction on the topic of the direct final rule under Executive Order 14281, “Restoring Equality of Opportunity and Meritocracy” and Executive Order 12250, “Leadership and Coordination of Nondiscrimination Laws.” 90 FR 17537 (April 28, 2025); 45 FR 72995 (Nov. 4, 1980).

To the extent that 5 U.S.C. 553 applies to this action, it is exempt from notice and comment because it constitutes a rule of procedure under 5 U.S.C. 553(b)(A) and for which no notice or hearing is required by statute. Additionally, this action is not a “substantive rule” for which a 30-day delay in effective date is required under 5 U.S.C. 553(d).

Signing Authority

This document of the Department of Energy was signed on December 4, 2025, by Chris Wright, Secretary of Energy. That document with the original signature and date is maintained by DOE. For administrative purposes only, and in compliance with requirements of the Office of the Federal Register, the undersigned DOE Federal Register Liaison Officer has been authorized to sign and submit the document in electronic format for publication, as an official document of the Department of Energy. This administrative process in no way alters the legal effect of this document upon publication in the Federal Register.

Signed in Washington, DC, on December 5, 2025.
Treena V. Garrett,
Federal Register Liaison Officer, U.S. Department of Energy.

[FR Doc. 2025-22323 Filed 12-8-25; 8:45 am]

BILLING CODE 6450-01-P